NATIONAL SCIENCE FOUNDATION

Agency Information Collection Activities: Proposed Collection, Comment Request

AGENCY: National Science Foundation.

ACTION: Notice.

SUMMARY: The National Science Foundation (NSF) is announcing plans to request clearance for this collection. In accordance with the requirement of Section 3506(c)(2)(A) of the Paperwork Reduction Act of 1995, we are providing opportunity for public comment on this action. After obtaining and considering public comment, NSF will prepare the submission requesting OMB clearance of this collection for no longer than three years.

Comments are invited on (a) whether the proposed collection of information is necessary for the proper performance of the functions of the Agency, including whether the information shall have practical utility; (b) the accuracy of the Agency's estimate of the burden of the proposed collection of information; (c) ways to enhance the quality, utility, and clarity of the information on respondents, including through the use of automated collection techniques or other forms of information technology; and (d) ways to minimize the burden of the collection of information of respondents, including through the use of automated collection techniques or other forms of information technology.

DATES: Written comments should be received by March 8, 2010, to be assured of consideration. Comments received after that date will be considered to the extent practicable.

ADDRESSES: Written comments regarding the information collection and requests for copies of the proposed information collection request should be addressed to Suzanne Plimpton, Reports Clearance Officer, National Science Foundation, 4201 Wilson Boulevard, Room 295, Arlington, VA 22230, or by e-mail to splimpto@nsf.gov.

FOR FURTHER INFORMATION CONTACT: Contact Suzanne Plimpton, the NSF Reports Clearance Officer, phone (703) 292-7556, or send e-mail to splimpto@nsf.gov. Individuals who use a telecommunications device for the deaf (TDD) may call the Federal Information Relay Service (FIRS) at 1-800-877-8339, which is accessible 24 hours a day, 7 days a week, 365 days a year (including Federal holidays).

SUPPLEMENTARY INFORMATION: Title of Collection: Evaluation of the Tribal Colleges and Universities Program.

OMB Control No.: 3145-NEW.

Expiration Date of Approval: Not applicable.

Abstract: Since 2001 the National Science Foundation's Tribal Colleges and Universities Program (TCUP) has been supporting science, technology, engineering, and mathematics (STEM) participation and retention among American Indians, Alaska Natives, and Native Hawaiians through the support of quality STEM teaching through faculty development, STEM degree and curriculum enhancement, and undergraduate research and training opportunities. The evaluation being conducted by Kauffman and Associates, Inc. focuses on a cross-site case study of the overall effectiveness of the programs as well as the impact the programs have had on participating institutions, STEM faculty, and students enrolled in STEM courses. To complement this comprehensive evaluation study three sub-studies—a model of practice study, an outcome study pertaining to the impact on institutional transformation, and a study about the STEM programmatic influences on student outcomes—will be conducted. The study will rely on a thorough review of college and STEM record assessments; telephone and face-to-face interviews with governing board members, college administrators, faculty members, and collaborative partners; focus groups with students, community members, faculty, and other stakeholders; and web-based surveys with alumni, governing board members, college presidents, administrators, and STEM faculty. The web-based surveys will be conducted with all grantees and past and present students and the interviews and focus groups will be conducted with the above specified populations at selected sites. The goal of this cross-site evaluation is to assess the effect of the STEM program on students, faculty, and administrators, to determine its overall effect on student achievement, outreach, and support in scientific research, faculty development, advancement, and collaboration, and to assess institutional change and development of best practices for STEM.

Respondents: Governing board members, college presidents and academic vice presidents, collaborative partners, and students, past and present, at or working with Tribal colleges and universities awarded TCUP grants from NSF.

Estimated Number of Annual Respondents: 4,819 (total).

Burden on the Public: 815 hours.

Dated: December 30, 2009.
Suzanne H. Plimpton,
Reports Clearance Officer, National Science Foundation.

[FR Doc. E9-31357 Filed 1-4-10; 8:45 am]

BILLING CODE 7555-01-P